DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 11/1/2008 Through 12/30/2008
Firm | Address | Date accepted for filing | Products
Von Ruden Manufacturing, Inc | 1008 First Street, NE., Buffalo, MN 55313-1755 | 11/25/2008 | Precision cast hydraulic motor and power train components, gear boxes, and custom fluid power component parts.
Milbank Manufacturing Co | 4801 Deramus Ave., Kansas City, MO 64120 | 12/1/2008 | Electrical meter sockets, enclosures and pedestals.
TechniQuip Corp | 5653 Stoneridge Drive, Pleasanton, CA 94588 | 12/11/2008 | Fiber optic illumination devices and fluorescent ring lights.
Thorock Metals, Inc | 435 Weber Avenue, Compton, CA 90223 | 12/9/2008 | Alloyed aluminum ingots (RSI, or Recycled Secondary Ingots).
Diversified Plastics, Inc | 8617 Xylon Court North, Minneapolis, MN 55445 | 12/22/2008 | Close-tolerance, small to medium-sized injection molded components.
Fey Industries, Inc | 200 Fourth Avenue North, Edgerton, MN 56128-1286 | 12/22/2008 | Plastic media packaging, ring binders, business card cases, custom products, calendars, and an assortment of other plastic products.
Kincaid Furniture Company, Inc | 240 Pleasant Hill Road, Hudson NC 28638 | 11/3/2008 | Solid wood household furniture.
Dewey Ironworks LLC | 1220 Industrial Parkway, Dewey, OK 74005 | 11/4/2008 | Linked hydraulic hoists.
Sigma Equipment Corporation | 39 Westmoreland Ave., White Plains, NY 10606 | 11/24/2008 | Machinery for chemical process industries, specifically for bar soap and powder soap production.
Vermillion Inc | 4754 S. Pallisade St., Wichita, KS 67217 | 12/1/2008 | Bulk cable and wiring harnesses.
Misty Mountain Threadworks, Inc | 718 Burma Road, Banner Elk, NC 28604 | 12/11/2008 | Recreational mountain climbing gear, including waist/body harnesses, boulder pads, slings, chalk bags and tool bags.
General Products, LLC | 4045 N. Rockwell Street, Chicago, IL 60618 | 11/25/2008 | Photo albums, folios, photo album inserts, pages and mats.
Huron Automatic Screw Company | 4918 Gratiot Ave., P.O. Port Huron, MI 48061-0068 | 12/23/2008 | Specialty fasteners (such as bolts) and other precision turned products.
Ken-Mar LLC | 2 Northwestern Drive, Salem, NH 03079 | 11/10/2008 | Sheet metal enclosures, brackets, front panels and mechanical assemblies.
Beehive Kitchenware Company | 1 West Street, 3rd Floor, Fall River, MA 02720 | 12/11/2008 | Spoons, measuring spoons, baby gifts, candlesticks, wall hooks, holiday ornaments, magnets, key rings, coasters, napkin rings, spatulas and coffee measures.
ALSCO Industries, Inc | 174 Charlton Road, Sturbridge, MA 01566 | 11/25/2008 | Plastic injected molded items such as single use dental flossers, heart defibrillator parts, fiber optic spools, web for building foundations, decorative curtain-rod ends, display case components and other molded plastic products as requested by customers.
Spring Health Products, Inc | 705 General Washington, Norristown, PA 19403 | 11/25/2008 | Dental diamond burrs and LED cure lights.
W. L. Fuller Inc | PO Box 8767, 7 Cypress, Warwick, RI 02888 | 11/25/2008 | Countersinks, counter bores, taper point drills, brad point drills, plug cutters, drill stops and stop collars.
Team Technologies, Inc | 1400 Eubank Blvd., SE., Albuquerque, NM 87123 | 11/26/2008 | Instruments and apparatus for measuring electricity as well as engineering and design services.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: December 30, 2008.
William P. Kittredge,
Program Officer for TAA.

[FR Doc. E8-31399 Filed 1-2-09; 8:45 am]

BILLING CODE 3510-24-P